DEPARTMENT OF COMMERCE

Foreign-Trade Zones Board

[Order No. 1604]

Expansion of Foreign-Trade Zone 102, St. Louis County, MO

Pursuant to its authority under the Foreign-Trade Zones Act of June 18, 1934, as amended (19 U.S.C. 81a-81u), the Foreign-Trade Zones Board (the Board) adopts the following Order:

Whereas, the St. Louis County Port Authority, grantee of Foreign-Trade Zone 102, submitted an application to the Board for authority to expand FTZ 102 to include two sites at the NorthPark industrial park (Site 2—492 acres) and at three parcels located at and adjacent to the Lambert-St. Louis International Airport (Site 3—272 acres) in St. Louis County, Missouri, adjacent to the St. Louis Customs and Border Protection port of entry (FTZ Docket 32-2008, filed 5/9/08);

Whereas, notice inviting public comment was given in the Federal Register (73 FR 28429, 5/16/08) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to expand FTZ 102 is approved, subject to the FTZ Act and the Board's regulations, including Section 400.28.

Signed at Washington, DC, this 30th day of January 2009.
Ronald K. Lorentzen,
Acting Assistant Secretary of Commerce for Import Administration, Alternate Chairman, Foreign-Trade Zones Board.

[FR Doc. E9-2648 Filed 2-6-09; 8:45 am]

BILLING CODE 3510-DS-P